DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: September 21, 2023, 10:00 a.m.

PLACE: Room 2C, 888 First Street NE, Washington, DC 20426, Open to the public.

STATUS: Open.

MATTERS TO BE CONSIDERED: Agenda.

* Note—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1104th—Meeting
[Open Meeting; September 21, 2023; 10:00 a.m.]
Item No. | Docket No. | Company
Administrative
A-1 | AD23-1-000 | Agency Administrative Matters.
A-2 | AD23-2-000 | Customer Matters, Reliability, Security and Market Operations.
A-3 | AD23-8-000 | FERC-NERC-Regional Entity Joint Inquiry Into Winter Storm Elliot.
Electric
E-1 | EL22-62-000 | California Independent System Operator Corporation.
E-2 | EL22-63-000 | ISO New England Inc.
E-3 | EL22-64-000 | New York Independent System Operator, Inc.
E-4 | EL22-65-000 | Southwest Power Pool, Inc.
E-5 | EL22-32-000, ER22-2029-000, (Consolidated), ER22-703-002, EL22-32-001 | PJM Interconnection, L.L.C.
E-6 | EL23-89-000 | Brookfield Renewable Trading and Marketing LP v. ISO New England Inc.
E-7 | ER20-2705-001 | Mankato Energy Center, LLC.
| ER20-2706-001 | Mankato Energy Center II, LLC.
| EL21-36-000 | Mankato Energy Center, LLC.
|  | Mankato Energy Center II, LLC.
| ER10-1874-012 | Mankato Energy Center, LLC.
| ER10-2721-010 | El Paso Electric Company.
| ER10-2861-009 | Fountain Valley Power, L.L.C.
| ER12-1308-012 | Palouse Wind, LLC.
| ER13-1504-010 | SWG Arapahoe, LLC.
| ER15-1471-011 | Blue Sky West, LLC.
| ER15-1672-010 | Evergreen Wind Power II, LLC.
| ER16-2010-005 | Hancock Wind, LLC.
| ER16-2561-005 | Sunflower Wind Project, LLC.
| ER16-711-008 | Pio Pico Energy Center, LLC.
| ER16-915-004 | Comanche Solar PV, LLC.
| ER19-2287-002 | Goal Line L.P.
| ER19-2289-002 | KES Kingsburg, L.P.
| ER19-2294-002 | Mesquite Power, LLC.
| ER19-2305-002 | Valencia Power, LLC.
| ER19-9-006 | Mankato Energy Center II, LLC.
E-8 | ER22-2306-000 | Black Hills Colorado Electric, LLC.
E-9 | ER10-2502-010 | Black Hills Colorado Electric, LLC.
| ER11-2724-010 | Black Hills Colorado IPP, LLC.
| ER19-645-004 | Black Hills Colorado Wind, LLC.
| ER18-2518-005 | Black Hills Electric Generation, LLC.
| ER11-4436-008 | Black Hills Power, Inc.
| ER10-2472-009 | Black Hills Wyoming, LLC.
| ER10-2473-009 | Cheyenne Light, Fuel and Power Company.
| ER10-1529-006 | Northern Iowa Windpower, LLC.
E-10 | ER22-2341-000 | Alabama Power Company, Georgia Power Company, and Mississippi Power Company.
E-11 | ER22-2162-001 | Deseret Generation & Transmission Co-operative, Inc.
E-12 | ER22-2348-000 | Tucson Electric Power Company.
E-13 | ER22-2352-000 | Duke Energy Carolinas, LLC.
E-14 | ER22-2340-000, ER22-2340-001 | Basin Electric Power Cooperative.
E-15 | ER22-2349-000 | UNS Electric, Inc.
E-16 | ER23-2327-000 | PJM Interconnection, L.L.C.
E-17 | ER22-2351-000 | Avista Corporation.
Gas
G-1 | RP19-78-007, RP19-78-010, RP19-78-011, RP19-1523-010, RP19-1523-012 | Panhandle Eastern Pipe Line Company, LP.
| RP19-257-011, RP19-257-012 (consolidated) | Southwest Gas Storage Company.
G-2 | OR19-22-000 | West Texas Gulf Pipe Line Company LLC.
| OR19-32-000 (consolidated) | Permian Express Partners LLC.
Hydro
H-1 | P-3820-015 | Aclara Meters, LLC.
Certificates
C-1 | CP20-55-000 | Port Arthur LNG Phase II, LLC and PALNG Common Facilities Company, LLC.
C-2 | CP22-25-000 | Venture Global Calcasieu Pass, LLC.
C-3 | OMITTED
C-4 | CP22-138-000 | Northern Natural Gas Company.
C-5 | CP22-15-000 | Texas Eastern Transmission, LP.
C-6 | CP16-454-006 | Rio Grande LNG, LLC.
| CP16-455-003, CP20-481-001 | Rio Bravo Pipeline Company, LLC.
C-7 | CP16-116-003 | Texas LNG Brownsville LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: September 14, 2023.
Kimberly D. Bose,
Secretary.

[FR Doc. 2023-20356 Filed 9-15-23; 4:15 pm]

BILLING CODE 6717-01-P